DEPARTMENT OF COMMERCE

National Oceanic and Atmospheric Administration

RIN: 0648-XK84

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Research Steering Committee (Committee), in October, 2008, to consider actions affecting New England fisheries in the exclusive economic zone (EEZ). Recommendations from this group will be brought to the full Council for formal consideration and action, if appropriate.

DATES: The meeting will be held on Thursday, October 16, 2008, at 9:30 a.m.

ADDRESSES: The meeting will be held at the The Westin, 70 Third Street, Waltham, MA 02451; telephone: (781) 290-5600; fax: (781) 890-5959.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Council's Research Steering Committee (RSC) will address a range of issues including, a briefing on the status of NMFS's Cooperative Research Program activities and funding for cooperative research. The RSC also will discuss outstanding issues related to the Council's research set-aside programs and review the preliminary list of the NEFMC's five-year Council research priorities. The committee will discuss the use of a workshop format to address RSC management reviews as well as re-examine and possibly revise the evaluation criteria for final cooperative research projects subject to the RSC management review. Finally, the committee will review outstanding cooperative research project final reports. The RSC may consider other topics at their discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: September 29, 2008.
Tracey L. Thompson,
Acting Director, Office of Sustainable Fisheries, National Marine Fisheries Service.

[FR Doc. E8-23265 Filed 10-1-08; 8:45 am]

BILLING CODE 3510-22-S